SURFACE TRANSPORTATION BOARD

[Docket No. AB 295 (Sub-No. 9X)]

The Indiana Rail Road Company—Discontinuance of Trackage Rights Exemption—in Lawrence, Orange, Washington, Clark and Floyd Counties, Ind.

The Indiana Rail Road Company (INRD) ¹ has filed a verified notice of exemption under 49 CFR pt. 1152 subpart F—Exempt Abandonments and Discontinuances of Service to discontinue approximately 71.9 miles of overhead trackage rights over a line of railroad (the Bedford-New Albany line) owned by CSXT, between milepost Q-245.8 in Bedford and milepost Q-317.7 in New Albany, in Lawrence, Orange, Washington, Clark and Floyd Counties, Ind. (the Bedford trackage rights),² pursuant to a letter agreement dated February 24, 2017, between INRD and CSXT. The Bedford trackage rights traverse United States Postal Service Zip Codes 47421, 47446, 47452, 47108, 47167, 47165, 47106, 47143, 47172 and 47150.

¹ INRD is indirectly controlled by the CSX Transportation, Inc. (CSXT), but operates as an independent Class II rail carrier. See CSX Corp. & CSX Transp.—Control—Ind. R.R., FD 32892 (STB served Nov. 7, 1996).

² The Board approved INRD's acquisition of the trackage rights in Ind. R.R.—Acquis.—Soo Line R.R., FD 34783 (STB served Apr. 11, 2006). In 2010, INRD abandoned its connecting line west of Bedford. See Ind. R.R.—Aban. Exemption—in Martin & Lawrence Ctys., AB 295 (Sub-No. 7) (STB served Mar. 26, 2010). According to INRD, the Bedford trackage rights have not been used since that time and are isolated from the main part of INRD's rail system. At the time of INRD's abandonment, CSXT obtained authority to discontinue service over most of the Bedford-New Albany line. See CXS Transp.—Discontinuance of Serv. Exemption—in Clark, Floyd, Orange & Washington Ctys., Ind., AB 55 (Sub-No. 698X) (STB served Apr. 7, 2010). CSXT had previously obtained discontinuance and abandonment authority for the northern 6.7 miles of the Bedford-New Albany line nearest Bedford with the effectiveness as to abandonment subject to Soo's (now INRD's) discontinuing its trackage rights. See CSX Transp.—Aban. & Discontinuance Exemption—in Lawrence Cty., Ind., AB 55 (Sub-No. 495X) (ICC served Jan. 27, 1995).

INRD has certified that (1) no local traffic has moved over the Bedford trackage for at least two years; (2) any overhead traffic can be and has been rerouted over other lines; (3) no formal complaint filed by a user of rail service on the Bedford trackage (or by a state or local government entity acting on behalf of such user) regarding cessation of service on the Bedford trackage is pending either with the Board or with any U.S. District Court or has been decided in favor of complainant within the two-year period; and (4) the requirements at 49 CFR 1105.12 (newspaper publication), and 49 CFR 1152.50(d)(1) (notice to governmental agencies) have been met.

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on July 27, 2017, unless stayed pending reconsideration. Petitions to stay that do not involve environmental issues and formal expressions of intent to file an OFA to subsidize continued rail service under 49 CFR 1152.27(c)(2) ³ must be filed by July 7, 2017.⁴ Petitions to reopen must be filed by July 14, 2017, with the Surface Transportation Board, 395 E Street SW., Washington, DC 20423-0001.

³ Each OFA must be accompanied by the filing fee, which currently is set at $1,700. See 49 CFR 1002.2(f)(25).

⁴ Because this is a discontinue proceeding and not an abandonment, interim trail use/rail banking and public use conditions are not appropriate. Because there will be an environmental review during any further abandonment of the Bedford-New Albany line, this discontinuance does not require an environmental review.

A copy of any petition filed with the Board should be sent to INRD's representative: Thomas J. Litwiler, Fletcher & Sippel LLC, 29 North Wacker Drive, Suite 920, Chicago, IL 60606.

If the verified notice contains false or misleading information, the exemption is void ab initio.

Board decisions and notices are available on our Web site at “WWW.STB.GOV.”

Decided: June 22, 2017.
By the Board, Rachel D. Campbell, Director, Office of Proceedings.
Kenyatta Clay,
Clearance Clerk.

[FR Doc. 2017-13422 Filed 6-26-17; 8:45 am]

BILLING CODE 4915-01-P